DEPARTMENT OF COMMERCE

National Oceanic and Atmospheric Administration

[980608149-1186-02]

RIN 0648-ZA44

Financial Assistance for the Use of Satellite Data for Studying Local and Regional Phenomena

AGENCY: National Environmental Satellite, Data, and Information Service, National Oceanic and Atmospheric Administration, Department of Commerce

ACTION: Notice of availability of Federal assistance.

SUMMARY: The Office of Research and Applications announces the availability of Federal assistance for fiscal year 2002 to expand the use of satellite data for the study of scientific phenomena in local and regional areas. This announcement provides detailed guidelines for the technical program, evaluation criteria, and selection procedures.

DATES: Proposals must be received no later than 5 pm EDT on October 25, 2001. Applications received after that time will be returned without review.

ADDRESSES: Office of Research and Applications; NOAA/NESDIS; 5200 Auth Road; Rm 701; Camp Springs, MD 20746-4304.

FOR FURTHER INFORMATION CONTACT: Mr. Hank Drahos, Federal Program Officer, at 301-763-8204 or Hank.Drahos@noaa.gov.

SUPPLEMENTARY INFORMATION:

Authority: Statutory authority for this program is provided under 49 U.S.C. 44720.

Catalog of Federal Domestic Assistance (CFDA). This program is listed in the CFDA under Number 11.440.

Program Description

NOAA's National Environmental Satellite, Data, and Information Service (NESDIS) Office of Research and Applications (ORA) has established a program to provide free real-time satellite data to academic institutions for their use in studying local and regional phenomena. The emphasis of the program is to foster new uses and expand the use of satellite data within the academic community. In order to do so, ORA will: (1) provide free access to real-time satellite data for use in ongoing projects; (2) provide data and funds for the purchase of basic equipment required for analysis as part of an existing program or teaching laboratory; and (3) provide data to support students for research purposes. Examples of real-time data and holding periods available are: Advanced Very High Resolution Radiometer (AVHRR) (72 hours), Geostationary Operational Environmental Satellite (GOES) sounder (240 hours) and imagery (82 hours), METEOSAT (24 hours), GMS (24 hours), and conventional (100 hours). Data older than the given times is not available free under this grant program. The use of this program solely for free data for ongoing activities with no other costs encumbered is encouraged.

The purpose of this notice is to identify eligibility criteria, roles and responsibilities, milestones, and selected criteria associated with the award. Each funded project will establish a 1-year grant between ORA and the grantee. Funding amounts will range from a minimum of $0 plus free data up to $25,000 for equipment and personnel.

Background

ORA provides overall guidance and direction to the research and application activities of NESDIS. ORA provides expert service to other NESDIS offices relating to sensor development, instrument problems, or systems hardware components. It coordinates with NESDIS, other appropriate NOAA units, and U.S. Government agencies in the implementation and evaluation of operational and research satellite data and products that result from research activities. It coordinates research activities of mutual interest with the academic community, NASA laboratories, and with foreign laboratories, particularly those in satellite operating countries. ORA provides advice to the Assistant Administrator concerning interfaces among centers and offices of NESDIS and among the major NOAA elements in relation to broad scale scientific projects. It produces and provides specific programmatic studies and statistics as needed. ORA provides support and coordination on NOAA's activities in the Strategic Plan and the U.S. Global Change Research Program.

Roles and Responsibilities

ORA: ORA will have primary responsibility for the following activities: 1. Provide funds and real-time satellite data needed for the project. 2. Provide technical guidance for image processing and analysis. Monitor progress and evaluate progress reports.

Grantee: The grantee shall have primary responsibility for the following activities associated with the project: 1. Organize and manage grant activities. 2. Identify a Principal Investigator who will take the lead for all technical aspects of the grant and be responsible for using satellite data as a key tool in the activity. 3. The grantee will agree to use the data only for the purposes stated in the proposal.

Grant Application Package

All applicants are required to submit a NOAA Grants Application Package and project proposal. The standard NOAA Grants Application Package (which includes Forms SF-424, SF-424A, SF-424B, CD-511, CD-512 if you have subcontracts or subgrantees, and SF-LLL if you are involved in lobbying activities) can be obtained from the NOAA Grants Website at http://www.rdc.noaa.gov/~grants/pdf/. If Internet access is not available, the standard NOAA Grant Application can be obtained from the Office of Research and Applications (301-763-8127).

Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs.

Required Elements

All recipients are to closely follow the instructions and guidelines in the preparation of the standard NOAA Application Forms listed earlier in this document.

1. Signed Summary title page: The title page should be signed by the Principal Investigator (PI) and the institutional representative. The page identifies the project's title and the PI's name and affiliation, complete address, phone, FAX, and e-mail address.

2. Project Proposal should include the following sections, totaling no more than 8 pages.

A. Goals and Objectives—identify broad project goals and quantifiable objectives.

B. Background/Introduction—state the problem and summary of existing federal/state/local efforts.

C. Audience—identify explicitly the audience and describe specifics of how the project will contribute to the target audience.

D. Project Description/Methodology—describe the specifics of the activity (3 pages maximum), with a complete and explicit description of the project area. Expected Results—list desired outcomes in terms of products or services.

3. Project Budget—provide a detailed budget breakdown by category and provide a brief narrative budget justification. Multi-year proposals will be accepted; however, future funding will be dependent upon satisfactory performance and the availability of funds. The annual awards must have scopes of work that are clearly severable that can be easily separated into annual increments of meaningful work which represent solid accomplishments if prospective funding is not made available to the applicant.

Selection Process

Applicants will submit project proposals to the Office of Research and Applications by the published due date. A project selection panel will be convened to review and recommend selection using the criteria published in these guidelines. Each proposal will be reviewed by at least three reviewers who are qualified to review the proposed work. These reviewers may include both Federal and non-Federal individuals, each of whom will provide an independent recommendation. Proposals will be ranked according to a scoring system (explained below) and presented to the Selecting Official (Director, ORA) for final selection. In addition to the rankings assigned by the panel members, the Director may consider geographic location and balance of technical areas in making his final decision. Selection Criteria (with weights).

1. Relevance of the Proposed Research to NESDIS and NOAA Missions (30 points) Will the activity foster broader knowledge concerning the use of satellite data in meteorological and/or oceanographic research at your institution?

2. Technical Merit (60 points) Is the proposed activity scientifically sound and relevant?

3. Overall Qualifications (10 points) Are the proposers capable of conducting a project of the scope and scale proposed (i.e., scientific, professional, facility, and administrative resources/capabilities?

Selection Schedule

Proposals due—October 25, 2001.

Final selection—Approximately January 1, 2002.

Grant start date—Approximately March 1, 2002.

Note: All deadlines are for receipt by 5 p.m. EDT on October 25, 2001. All applicants are required to submit one original and two copies of a completed and signed NOAA Grants Application Package. The application package may be obtained by calling (301) 763-8127 or accessed on-line from the NOAA Grants Home Page at http://www.rdc.noaa.gov/~grants/index/html.

Reporting Requirements

The Grantee will be required to provide a semi-annual progress report and a final report to the Federal Program Officer.

Funding Availability

NOAA expects that approximately $100,000 will be available in FY 2002 for this program. However, publication of this notice does not obligate NOAA to award any specific grant or cooperative agreement or to obligate all or any part of the available funds.

Cost Sharing

There is no requirement for matching funds under this award.

Eligibility Criteria

Eligible applicants are institutions of higher education, other nonprofits, state, local and Indian tribal governments. NESDIS Cooperative Institutes and Federal agencies or institutions are not eligible to receive Federal assistance under this Notice.

Indirect Costs

The total dollar amount of the indirect costs proposed in an application under this program must not exceed the current indirect cost rate negotiated and approved by the Applicant's cognizant Federal agency, prior to the proposed effective date of the award or 100 percent of the total proposed direct cost dollar amount in the application, whichever is less.

Federal Policies and Procedures

Recipients and sub-recipients are subject to all Federal laws and Federal and DOC policies, regulations, and procedures applicable to Federal assistance awards.

Name Check Review

All non-profit and for-profit applicants are subject to a name check review process. Name checks are intended to reveal if any key individuals associated with the recipient have been convicted of, or are presently facing, criminal charges such as fraud, theft, perjury, or other matters that significantly reflect on the recipient's management, honesty, or financial integrity.

Past Performance

Unsatisfactory performance under prior Federal awards may result in an application not being considered for funding.

Pre-Award Activities

If applicants incur any costs prior to an award being made, they do so solely at their own risk of not being reimbursed by the Government. Notwithstanding any verbal or written assurance that may have been received, there is no obligation on the part of DOC to cover pre-award costs.

No Obligation for Future Funding

If the application is selected for funding, DOC has no obligation to provide any additional future funding in connection with that award. Renewal of an award to increase funding or extend the period of performance is at the total discretion of DOC.

Delinquent Federal Debts

No award of Federal funds shall be made to an applicant who has an outstanding delinquent Federal debt until either:

(i) The delinquent account is paid in full,

(ii) A negotiated repayment schedule is established and at least one payment is received, or

(iii) Other arrangements satisfactory to DOC are made.

Primary Applicant Certifications

All organizations or individuals preparing grant applications must submit a completed Form CD-511 “Certifications Regarding Debarment, Suspension, and Other Responsibility Matters: Drug-Free Workplace Requirements and Lobbying,” and explanations are hereby provided.

Non-Procurement Debarment and Suspension

Prospective participants (as defined at 15 CFR part 26, Section 105) are subject to 15 CFR part 26, “Nonprocurement Debarment and Suspension” and the related section of the certification form prescribed above applies.

Drug-Free Workplace

Grantees (as defined at 15 CFR, part 26, Section 605) are subject to 15 CFR part 26, subpart f, “Government-wide Requirements for Drug-Free Workplace (Grants)” and the related section of the certification form prescribed above applies.

Anti-Lobbying

Persons (as defined at 15 CFR part 28, Section 105) are subject to the lobbying provisions of 31 U.S.C. 1352, “Limitations on use of appropriated funds to influence certain Federal contracting and financial transactions,” and the lobbying section of the certification form prescribed above applies to application/bids for grants, cooperative agreements, and contracts for more than $100,000, and loans and loan guarantees for more than $150,000.

Anti-Lobbying Disclosures

Any applicant that has paid or will pay for lobbying using any funds must submit an SF-LLL, “Disclosure of Lobbying Activities,” as required under 15 CFR part 28, Appendix B.

Lower-Tier Certifications

Recipients shall require applicants/bidders for sub-grants, contracts, subcontracts, or other lower-tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.”

Form CD-512 is intended for the use of recipients and should not be transmitted to DOC. SF-LLL submitted by any tier recipient or sub-recipient should be submitted to DOC in accordance with the instructions contained in the award document.

False Statements

A false statement on an application is possible punishment by a fine or imprisonment as provided in 18 U.S.C. 1001.

Buy American-Made Equipment or Products

Applicants are hereby notified that they will be encouraged, to the greatest extent practicable, to purchase American-made equipment and products with funding provided under this program in accordance with Congressional intent.

Classification

This action has been determined to be not significant for purposes of Executive Order 12866. Prior notice and an opportunity for public comment are not required by the Administrative Procedure Act or any other law for this notice concerning grants, cooperative agreements, benefits, and contracts. Therefore, this notice is exempt from the requirements of the Regulatory Flexibility Act. Notwithstanding any other provision of law, no person is required to respond to, nor shall a person be subject to, a penalty for failure to comply with a collection of information subject to the requirements of the Paperwork Reduction Act (PRA) unless that collection of information displays a currently valid OMB control number. This notice contains collection-of-information requirements subject to the Paperwork Reduction Act. The use of Standard Forms 424, 424A, 424B, and SF-LLL have been approved by OMB under the respective control numbers 0348-0043, 0348-0044, 0348-0040, and 0348-0046.

Dated: August 29, 2001.
Mary M. Glackin,
Deputy Assistant Administrator for Satellite and Information Services.

[FR Doc. 01-22430 Filed 9-5-01; 8:45 am]

BILLING CODE 3510-HR-P